DEPARTMENT OF TRANSPORTATION

Surface Transportation Board

[Finance Docket No. 33877]

Illinois Central Railroad Company—Construction and Operation—In East Baton Rouge Parish, LA

AGENCY: Surface Transportation Board, Transportation.

ACTION: Notice of availability of environmental assessment and request for comments.

SUMMARY: The Illinois Central Railroad Company (IC) has petitioned the Surface Transportation Board (Board) for authority to construct and operate a rail line approximately 3.2 miles in length in East Baton Rouge Parish, Louisiana, to serve ExxonMobil Chemical Company's Baton Rouge Polyolefins plant. The Board's Section of Environmental Analysis (SEA) has prepared an environmental assessment (EA) for this project. Based on the information provided and the environmental analysis conducted to date, the EA preliminarily concludes that this proposal should not significantly affect the quality of the human environment if the recommended mitigation measures set forth in the EA are implemented. Accordingly, SEA recommends that, if the Board approves this project, IC be required to implement the mitigation set forth in the EA. Copies of the EA have been served on all interested parties and will be made available to additional parties upon request. SEA will consider all comments received when making its final environmental recommendations to the Board. The Board will then consider SEA's final recommendations and the complete environmental record in making its final decision in this proceeding.

DATES: The EA is available for public review and comment. Comments are due by August 20, 2001.

ADDRESSES: Comments (an original and 10 copies) regarding this EA should be submitted in writing to: Section of Environmental Analysis, Surface Transportation Board, 1925 K Street, NW., Washington, DC 20423, to the attention of Dana White.

FOR FURTHER INFORMATION CONTACT: Dana White, (202) 565-1552 (TDD for the hearing impaired 1-800-877-8339). To obtain a copy of the EA, contact Da-To-Da Office Solutions, Room 405, 1925 K Street, NW., Washington, DC 20006, phone (202) 293-7776 or visit the Board's website at www.stb.dot.gov.

By the Board, Victoria J. Rutson, Acting Chief, Section of Environmental Analysis.
Vernon A. Williams,
Secretary.

[FR Doc. 01-18182 Filed 7-19-01; 8:45 am]

BILLING CODE 4915-00-P